DEPARTMENT OF AGRICULTURE

Agricultural Marketing Service

[Doc. Nos. AMS-DA-11-0061; DA-11-06]

Notice of Request for Approval of a New Information Collection for Export/Health Certificate Forms

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for export certificate request forms for dairy products. There are currently 17 different export certificate request forms for dairy products with more expected as negotiations continue with more countries.

DATES: Comments on this notice must be received by May 4, 2012 to be assured of consideration.

ADDRESSES: Comments may be sent to Office of the Deputy Administrator, USDA/AMS/Dairy Programs, Room 2968-S, 1400 Independence Avenue SW., Washington, DC 20090-6465 or may be submitted at the Federal eRulemaking Portal: http//www.regulations.gov. Comments should reference the docket number and the date and page of issue in the Federal Register. All comments received will be available for public inspection during regular business hours at the above address or at www.regulations.gov. The identity of the individuals or entities submitting comments will be made public.

Additional Information: Contact Kenneth Vorgert, USDA/AMS/Dairy Programs, Dairy Grading Branch, 2150 Western Court, Suite 100, Lisle, IL 60532-1973; Tel: 630-437-5037, Fax: 630-437-5037 or via email at: ken.vorgert@ams.usda.gov.

SUPPLEMENTARY INFORMATION:

Title: Export Health Certificate Request Forms.

OMB Numbers: 0581-NEW.

Expiration Date of Approval: Three years from approval date.

Type of Request: New information collection.

Abstract: The dairy grading program is a voluntary user fee program authorized under the Agricultural Marketing Act (AMA) of 1946 (7 U.S.C. 1621-1627). The regulations governing inspection and grading services of manufactured or processed dairy products are contained in 7 CFR part 58. International markets are increasing for United States dairy products. Importing countries are requiring certification as to production methods and sources of raw ingredients for dairy products. USDA, AMS, Dairy Grading Branch is the designated agency for issuing sanitary certificates for dairy products in the United States. Exporters must request export certificates from USDA, AMS, Dairy Grading Branch if the importing country requires them.

Need and Use of the Information: In order for AMS to provide the required information on the export sanitary certificates it must collect the information from the exporter. The information required on the sanitary certificates varies from country to country requiring specific forms for each country to collect the information. Such information includes: identity of the importer and exporter; consignment specifics and border entry point at the country of destination. There are currently 16 different export certificate request forms with ongoing negotiations with at least 5 more countries on possible new sanitary certificates. The information gathered using these forms is only used to create the export sanitary certificate.

Estimate of Burden: Public reporting for this information collection is estimated to average 0.16 hour per request.

Respondents: Businesses or other for-profit.

Estimated Number of respondents: 250.

Estimated Total Annual Responses: 15,000.

Estimated Average number of responses per respondent: 60.

Estimated Total Annual Burden on Respondents: 2,400 hours.

Comments are invited on: (1) Whether the proposed collection of information is necessary for the proper performance of the functions of the agency, including whether the information will have practical utility; (2) the accuracy of the agency's estimate on the burden of the proposed collection of information including the validity of the methodology and the assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: February 28, 2012.
Robert C. Keeney,
Acting Administrator.

[FR Doc. 2012-5194 Filed 3-2-12; 8:45 am]

BILLING CODE 3410-02-P